DEPARTMENT OF HEALTH AND HUMAN SERVICES

Health Resources and Services Administration

Notice of a HRSA-Initiated Supplemental Award to the University of Nebraska Medical Center/Board of Regents of the University of Nebraska for the Partnership for Urban Maternal and Child Health (MCH) Leadership Community Cooperative Agreement

AGENCY: Health Resources and Services Administration (HRSA), Department of Health and Human Services.

ACTION: Notice of a HRSA-Initiated Supplemental Award to the University of Nebraska Medical Center/Board of Regents of the University of Nebraska for the Partnership for Urban Maternal and Child Health (MCH) Leadership Community Cooperative Agreement.

SUMMARY: HRSA announces the award of a supplement for $700,000 to the University of Nebraska Medical Center/Board of Regents of the University of Nebraska for the Partnership for Urban MCH Leadership Community Cooperative Agreement. The supplement will allow the current recipient, during the period of May 1, 2019-April 30, 2020, to assess the outcomes and impact of its collective impact learning collaborative with urban health departments.

SUPPLEMENTARY INFORMATION: Intended Recipient of Award: University of Nebraska Medical Center/Board of Regents of the University of Nebraska.

Amount of Non-Competitive Award: $700,000.

Period of Supplemental Funding: 05/01/2019-04/30/2020.

CFDA Number: 93.110.

Authority: Social Security Act, Title V, § 501(a)(2) (42 U.S.C. 701(a)(2)).

Justification: The purpose of the Partnership for Urban MCH Leadership Community Cooperative Agreement program is to support urban MCH leaders as they work to improve public health programs and the delivery of MCH services, and to assure optimal alignment with the Title V MCH Services Block Grant program. This program focuses on the following three goals:

1. Assisting urban MCH leaders in achieving collective impact to respond to the MCH challenges faced by urban communities by performing an environmental scan, planning and convening a series of three learning collaborative for urban MCH leaders, and developing and disseminating a collective impact toolkit and compendium;

2. Strengthening local and State MCH analytic capacity through epidemiology training opportunities; and

3. Serving as an effective voice in communicating urban MCH issues and in developing strong partnerships and collaborations with State Title V programs and other national partners to advance urban MCH priorities.

The purpose of the supplement from HRSA is to give the University of Nebraska Medical Center/Board of Regents of the University of Nebraska for the Partnership for Urban MCH Leadership Community Cooperative Agreement, the opportunity to collect impact data for an additional year in support of goal one of this project. An additional year will allow the recipient to mature the current projects, continue collecting data from teams, and begin to assess the impact that this collective impact work has had on urban outcomes, as well as any impact at the State Title V National Performance Measure level. The recipient also will have the opportunity for more extensive data analysis to assess effective strategies that impact urban outcomes, and to identify lessons learned for potential future collective impact initiatives. With an extra year, the recipient will be able to assess penetration of collective impact into broader communities, and plan for providing technical assistance regarding replication of these learning collaborative in new urban areas.

This cooperative agreement also supports epidemiology training (Goal 2) and enables the award recipient to serve as a voice for advancing urban MCH priorities (Goal 3), which are ongoing needs. This supplement will maintain HRSA's investment in strengthening local and State MCH analytic capacity through epidemiology training opportunities, as provided by Goal 2, to assure optimal capacity to respond to MCH emerging and priority issues at the state and local level, such as opioids and neonatal abstinence syndrome. In addition, assuring that a national partner is continuing to communicate urban MCH issues, as addressed by Goal 3, is a foundational need of the state-urban MCH partnership, and is essential for optimizing Title V MCH Block Grant outcomes.

FOR FURTHER INFORMATION CONTACT: Kate Marcell, Division of State and Community Health, Maternal and Child Health Bureau, HRSA, 5600 Fishers Lane, Room 18N104D, Rockville, MD 20857, Phone: 301-443-4656, Email: KMarcell@hrsa.gov.

Grantee/organization name | Grant No. | State | FY 2018 Authorized funding level | FY 2019 Proposed funding level
University of Nebraska Medical Center/Board of Regents of the University of Nebraska | U01MC17261 | NE | $700,000 | Up to $700,000.

Dated: April 26, 2019.
George Sigounas,
Administrator.

[FR Doc. 2019-08876 Filed 5-1-19; 8:45 am]

BILLING CODE 4165-15-P